ENVIRONMENTAL PROTECTION AGENCY

[EPA-HQ-OW-2004-0035; FRL-8199-4]

Agency Information Collection Activities; Submission to OMB for Review and Approval; Comment Request; Survey of Drinking Water Treatment Facilities; EPA ICR No. 2176.01, OMB Control No. 2040-XXXX

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before August 18, 2006.

ADDRESSES: Submit your comments, referencing Docket ID No. EPA-HQ-OW-2004-0035, to (1) EPA online using www.regulations.gov (our preferred method), by e-mail to OW-Docket@epa.gov, or by mail to: EPA Docket Center, Environmental Protection Agency, Water Docket (Mail Code 4101T), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Mr. M. Ahmar Siddiqui, Office of Water (Mail Code 4303T), Environmental Protection Agency, 1200 Pennsylvania Ave., NW., Washington, DC 20460; telephone number: (202) 566-1044; fax number: (202) 566-1053; e-mail address: siddiqui.ahmar@epa.gov.

SUPPLEMENTARY INFORMATION: EPA has submitted the following ICR to OMB for review and approval according to the procedures prescribed in 5 CFR 1320.12. On July 5, 2005 (70 FR 38675), EPA sought comments on this ICR pursuant to 5 CFR 1320.8(d). EPA received several comments during the comment period from trade associations, utilities, state agencies, and private citizens, which are addressed in this ICR. Any additional comments on this ICR should be submitted to EPA and OMB within 30 days of this notice.

EPA has established a public docket for this ICR under Docket ID No. EPA-HQ-OW-2004-0035, which is available for online viewing at www.regulations.gov, or in person viewing at the Water Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Survey of Drinking Water Treatment Facilities.

ICR numbers: EPA ICR No. 2176.01, OMB Control No. 2040-XXXX.

ICR Status: This ICR is for a new information collection activity. An Agency may not conduct or sponsor, and a person is not required to respond to, a collection of information, unless it displays a currently valid OMB control number. The OMB control numbers for EPA's regulations in title 40 of the CFR are displayed either by publication in the Federal Register or by other appropriate means, such as on the related collection instrument or form, if applicable. The display of OMB control numbers in certain EPA regulations is consolidated in 40 CFR part 9.

Abstract: In its 2004 Effluent Guidelines Program Plan (September 2, 2004; 69 FR 53705), which EPA published under Clean Water Act (CWA) section 304(m), EPA identified the “drinking water treatment point source category” as a candidate for rulemaking. EPA is collecting information from drinking water treatment facilities to develop effluent guidelines or pretreatment standards necessary to control the discharge of toxic and non-conventional pollutants into surface waters of the United States and to publicly owned treatment works (POTWs).

In order to inform the rulemaking process, EPA is conducting several data collection activities. The technical survey announced in this Federal Register notice would provide EPA with preliminary technical data needed to quantify any adverse environmental impacts of the discharges of residuals and metals from drinking water treatment facilities and to obtain information about finished water production and current residuals generation and management techniques.

The technical survey is composed of a questionnaire. The questionnaire would allow EPA to collect information from facilities that serve populations greater than 10,000. EPA would use data from the questionnaire to better classify drinking water treatment facilities by treatment practices, residuals characteristics, and residuals management methods. EPA expects to collect additional information from some of the recipients of the questionnaire announced today through a follow-up detailed questionnaire.

If approved, the survey will be administered under authority of section 308 of the CWA, 33 U.S.C. 1318. As a result, all recipients of the questionnaire would be required to complete and return the questionnaire to EPA. An agency may not conduct or sponsor, and a person is not required to respond to, a collection of information unless it displays a currently valid OMB control number.

Burden Statement: The annual public reporting and recordkeeping burden for this collection of information is estimated to average 6.7 hours per unique response to the questionnaire. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The respondents affected by this information collection request are drinking water treatment plants that generated residuals in 2005. More specifically, the recipients of the questionnaire would be drinking water treatment utilities serving populations in excess of 10,000.

Estimated Number of Respondents: 618.

Frequency of Response: This is a one-time information collection.

Estimated Total Annual Hour Burden: 4,143.

Estimated Total Annual Cost: $145,544, includes $6,732 annualized capital or O&M costs.

Changes in the Estimates: Because this is a request for a new ICR, there is no change in the number of hours in the total estimated burden currently identified in the OMB Inventory of Approved ICR Burdens.

Dated: July 11, 2006.
Sara Hisel McCoy,
Acting Director, Collection Strategies Division.

[FR Doc. E6-11432 Filed 7-18-06; 8:45 am]

BILLING CODE 6560-50-P